DEPARTMENT OF JUSTICE

Notice of Proposed Partial Consent Decree Under the Comprehensive Environmental Response, Compensation, and Liability Act and the Clean Air Act

Notice is hereby given that on August 12, 2011, a proposed Partial Consent Decree in United States v. C.A.I., Inc., et al., Civil Action No. 1:10-cv-10390-GAO, was lodged with the United States District Court for the District of Massachusetts.

The proposed Partial Consent Decree will settle the United States' claims on behalf of the U.S. Environmental Protection Agency (“EPA”) against Defendants C.A.I., Inc. (“CAI”), Sartorelli Realty, LLC (“SRLLC”), and Roy A. Nelson as Trustee of Nelson Danvers Realty Trust (“NDRT”), pursuant to Section 107 of the Comprehensive Environmental Response, Compensation, and Liability Act (“CERCLA”), 42 U.S.C. 9607, and Sections 112(r) and 114(a) of the Clean Air Act (“CAA”), 42 U.S.C. 7412(r), 7414(a), with respect to the Danversport Superfund Site, a former inks and paint products manufacturing facility, in Danvers, Massachusetts (“Site”). Pursuant to the Partial Consent Decree, based on demonstrations of limited financial resources: CAI will pay $400,000, including $300,000 in response costs under CERCLA and $100,000 as a civil penalty under the CAA; SRLLC will pay $150,000 in response costs; NDRT will pay $140,000 in response costs; and the settling defendants will transfer to the United States funds from an escrow account totaling approximately $27,000 as of March 2011. In addition, SRLLC and NDRT will make best efforts to sell the Site property and will transfer all net sales proceeds to the United States. Finally, the settling defendants will pay the United States 90% of any net proceeds from the resolution of other Site-related proceedings, up to the total amount of the United States' unreimbursed response costs. The proposed Partial Consent Decree, together with a Partial Consent Decree between the United States and Defendant Arnel Company, Inc. entered on July 1, 2011, will resolve this action in its entirety.

The Department of Justice will receive comments relating to the proposed Partial Consent Decree for a period of 30 days from the date of this publication. Comments on the Partial Consent Decree should be addressed to the Assistant Attorney General, Environment and Natural Resources Division, and either e-mailed to pubcomment-ees.enrd@usdoj.gov or mailed to P.O. Box 7611, U.S. Department of Justice, Washington, DC 20044-7611, and should refer to United States v. C.A.I., Inc., et al., Civil Action No. 1:10-cv-10390-GAO, D.J. Ref. 90-11-2-09184 & 90-11-2-09184/1.

During the public comment period, the proposed Partial Consent Decree may be examined at the following Department of Justice Web site: http://www.usdoj.gov/enrd/Consent_Decrees.html. A copy of the proposed Partial Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. If requesting a copy by mail from the Consent Decree Library, please enclose a check in the amount of $15.75 ($0.25 per page reproduction cost) payable to the U.S. Treasury or, if requesting by e-mail or fax, forward a check in that amount to the Consent Decree Library at the above-referenced address.

Ronald G. Gluck,
Assistant Chief, Environmental Enforcement Section, Environment and Natural Resources Division.

[FR Doc. 2011-21002 Filed 8-17-11; 8:45 am]

BILLING CODE 4410-15-P